DEPARTMENT OF HEALTH AND HUMAN SERVICES

Indian Health Service

Request for Public Comment: 30-Day Information Collection: Application for Participation in the IHS Scholarship Program

AGENCY: Indian Health Service, HHS.

ACTION: Notice and request for comments. Request for extension of approval.

SUMMARY: In compliance the Paperwork Reduction Act (PRA) of 1995, the Indian Health Service (IHS) invites the general public to comment on the information collection titled, “Application for Participation in the IHS Scholarship Program,” Office of Management and Budget (OMB) Control No. 0917-0006. IHS is requesting OMB to approve an extension for this collection, which expires on March 31, 2020. This proposed information collection project was previously published in the Federal Register on December 17, 2019, and allowed 60 days for public comment, as required by the PRA. The IHS received no comments regarding this collection. The purpose of this notice is to allow 30 days for public comment to be submitted directly to OMB.

DATES: Comment Due Date: April 23, 2020. Your comments regarding this information collection are best assured of having full effect if received within 30 days of the date of this publication.

ADDRESSES: Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

SUPPLEMENTARY INFORMATION:

Information Collection

Title: “Application for Participation in the IHS Scholarship Program,” OMB Control No. 0917-0006. Type of Information Collection Request: Extension of the currently approved information collection “Application for Participation in the IHS Scholarship Program,” OMB Control No. 0917-0006. Form Number(s): IHS-856-07 through 856-16, IHS-856-19 through 856-23, IHS-817, and IHS-818 are retained for use by the IHS Scholarship Program (IHSSP) as part of this current Information Collection Request. Reporting forms are found on the IHS website at www.ihs.gov/scholarship. Forms IHS-856-03, IHS-856-05, and IHS-856-06 have been moved to the online application process and can be found at www.ihs.gov/scholarship/applynow/. Need and Use of Information Collection: The IHS Scholarship Branch needs this information for program administration and uses the information to: solicit, process, and award IHS Pre-graduate, Preparatory, and/or Health Professions Scholarship recipients; monitor the academic performance of recipients; and to place recipients at payback sites. The IHSSP application is electronically available on the internet at the IHS website at: http://www.ihs.gov/scholarship/applynow/. Affected Public: Individuals, not-for-profit institutions and State, local or Tribal Governments. Type of Respondents: Students pursuing health care professions.

The table below provides: Types of data collection instruments, Estimated number of respondents, Number of responses per respondent, Annual number of responses, Average burden hour per response, and Total annual burden hours.

Data collection instrument(s) | Number of respondents | Responses per respondent | Total annual response | Burden hour per response * | Annual burden hours
Scholarship Online Application | 850 | 1 | 850 | 1.00 (60 min) | 850
Verification of Acceptance or Decline of Award (IHS-856-7) | 300 | 1 | 300 | 0.13 ( 8 min) | 39
Recipient's Initial Program Progress Report (IHS-856-8) | 800 | 1 | 800 | 0.13 ( 8 min) | 104
Notification of Academic Problem (IHS-856-9) | 20 | 1 | 20 | 0.13 ( 8 min) | 3
Change of Status (IHS-856-10) | 50 | 1 | 50 | .045 (25 min) | 21
Request for Approval of Deferment (IHS-856-11) | 60 | 1 | 60 | 0.13 ( 8 min) | 8
Preferred Placement (IHS-856-12) | 150 | 1 | 150 | 0.50 (30 min) | 75
Notice of Impending Graduation (IHS-856-13) | 170 | 1 | 170 | 0.17 (10 min) | 28
Notification of Deferment Program (IHS-856-14) | 60 | 1 | 60 | 0.13 (8 min) | 8
Placement Update (IHS-856-15) | 170 | 1 | 170 | 0.18 (11 min) | 31
Annual Status Report (IHS-856-16) | 200 | 1 | 200 | 0.25 (15 min) | 50
Lost Stipend Payment (IHS-856-19) | 10 | 1 | 10 | 0.13 ( 8 min) | 2
Summer School Request (IHS-856-21) | 100 | 1 | 100 | 0.10 ( 6 min) | 10
Change of Name or Address (IHS-856-22) | 20 | 1 | 20 | 0.13 (8 min) | 3
Request for Credit Validation (IHS-856-23) | 30 | 1 | 30 | 0.10 (6 min) | 3
Scholarship Program Agreement (IHS-817) | 60 | 1 | 60 | 0.16 (10 min) | 10
Health Professions Contract (IHS-818) | 225 | 1 | 225 | 0.16 (10 min) | 38
Total |  |  | 3,275 |  | 1,283
* For ease of understanding, burden hours are also provided in actual minutes.

There are no direct costs to respondents other than their time to voluntarily complete the forms and submit them for consideration. The estimated cost for the federal government is $145,223.00 (contractor) to work on the program with IHS program staff.

Requests for Comments: The IHS requests your comments on this collection concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Michael D. Weahkee,
Assistant Surgeon General, RADM, U.S. Public Health Service, Principal Deputy Director, Indian Health Service.

[FR Doc. 2020-06140 Filed 3-23-20; 8:45 am]

BILLING CODE 4165-16-P